SURFACE TRANSPORTATION BOARD

49 CFR Parts 1001, 1003, 1004, 1005, 1007, 1011, 1012, 1013, 1016, 1018, 1019, 1033, 1034, 1035, 1037, 1090, 1100, 1101, 1103, 1104, 1105, 1106, 1108, 1110, 1112, 1113, 1114, 1116, 1117, 1119, 1120, 1132, 1133, 1135, 1141, 1144, 1146, 1147, 1150, 1152, 1155, 1177, 1180, 1182, 1184, 1185, 1200, 1220, 1242, 1243, 1244, 1245, 1246, 1247, 1248, 1253, 1305, 1310, 1312, 1313, 1319, 1331, and 1333

[Docket No. EP 746]

Updating the Code of Federal Regulations

Correction

In rule document 2018-06657 beginning on page 15075 in the issue of Monday, April 9, 2018, make the following correction:

On page 15080, in the first column, amendatory instruction 70 should read as follows:

“70. In § 1182.2(a)(11), remove “21 U.S.C. 853a” and add in its place “21 U.S.C. 862”. ”

[FR Doc. C1-2018-06657 Filed 4-16-18; 8:45 am]

BILLING CODE 1301-00-D